DEPARTMENT OF TRANSPORTATION

National Highway Traffic Safety Administration

[Docket No. NHTSA-2019-0012]

Notice and Request for Comments

AGENCY: National Highway Traffic Safety Administration (NHTSA), Department of Transportation (DOT).

ACTION: Notice and request for comments.

SUMMARY: The DOT invites public comments about our intention to request the Office of Management and Budget (OMB) approval to reinstate an information collection. Before a Federal agency can collect certain information from the public, it must receive approval from OMB. Under procedures established by the Paperwork Reduction Act of 1995, before seeking OMB approval, Federal agencies must solicit public comment on proposed collections of information, including extensions and reinstatement of previously approved collections.

DATES: Written comments should be submitted by May 21, 2019.

ADDRESSES: You may submit comments identified by Docket No. NHTSA-2019-0012 through one of the following methods:

• Federal eRulemaking Portal: http://www.regulations.gov. Follow instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Hisham Mohamed, NHTSA 1200 New Jersey Ave. SE, West Building, Room W43-437, NVS-131, Washington, DC 20590. Mr. Mohamed's telephone number is 202-366-0307. Please identify the relevant collection of information by referring to its OMB Control Number.

SUPPLEMENTARY INFORMATION:

Title: 49 CFR part 569 & 574, Compliance and Labeling of Motor Vehicle Tires and Rims.

OMB Control Number: 2127-0503.

Type of Request: Reinstatement of a previously approved collection of information.

Abstract: The labeling of motor vehicle tires and rims with the information required by regulations and standards benefits motor vehicle manufacturers and consumers. Primarily, these labeling requirements help ensure tires are mounted on appropriate rims and the rims and tires are mounted on vehicles for which they were intended. If tires and rims were not labeled, mismatching of tire and rim sizes would likely occur, often resulting in poor tire performance. The absence of the vehicle label specifying vehicle loads, axle loads, and recommended tire inflation pressure would likely result in improper tire selection by a tire dealer or vehicle owner. Mismatching of rims and tires can greatly reduce the performance of tires, may cause tire and rim failure, and may result in vehicle handling and stability problems, which could result in loss of vehicle control.

Federal Motor Vehicle Safety Standard (FMVSS) Nos. 109, 117, 119, 129, and 139 establish a fixed format for the labeling requirements to be placed into or onto both sidewalls of tires manufactured for use on motor vehicles. Each new tire manufacturer, brand name owner, and retreader must label each tire manufactured by engraving tire and retreaded tire molds with the appropriate labeling information.

FMVSS Nos. 110 and 120 specify a fixed format for the placard labeling requirements to be placed on each motor vehicle. In addition, FMVSS Nos. 110 and 120 require additional information be labeled onto the finished rim used on vehicles covered by this standard.

Affected Public: New tire manufacturers, manufacturers of retreaded tires, and manufacturers of motor vehicles.

Frequency: Once.

Number of Respondents: 1,800.

The agency estimates the number of respondents to be 1,800. This corresponds to approximately 20 new tire manufacturers and 780 manufacturers of retreaded tires, both domestically and internationally located, that must label motor vehicle tires they manufacture in accordance with FMVSS Nos. 109, 117, 119, 129, 139, and Regulations Part 569 and 574. Additionally, the agency estimates approximately 1,000 manufacturers of motor vehicles (trucks, buses, automobiles, motorcycles, and trailers), both domestically and internationally, that must provide placard labeling for the vehicles they manufacture. NHTSA estimates about 142,555,506 annual responses.

Estimated Total Annual Burden Hours: 274,491.

The estimated total annual burden of the collection of information for new tire manufacturers, retreaders, and rim manufacturers to label the motor vehicle tires and rims is 274,491 hours. This estimate is the sum of the total yearly burden from Tables 1 and 2 (190,463 hours + 84,028 hours = 274,491 hours).

Table 1-Burden Hours Associated With Tires
[New and retreaded]
FMVSS or regulation | Molds per year | Rate of burden/mold (hours) | Annual burden (hours)
109/139 | 7,906 | 5.0 | 39,530
117 | 6,117 | 5.0 | 30,585
119/139 | 4,313 | 5.0 | 21,565
129 | 1 | 5.0 | 5
569 | 150 | 5.0 | 750
574 | 15,560 | 6.3 | 98,028
Total Yearly burden hours: |  |  | 190,463

Table 2—Burden Hours Associated With Rims
FMVSS | Number of vehicles | Rate of burden/vehicle (hours) | Total annual burden (hours)
110/120 | 19,000,000 | 0.0044225 | 84,028

Estimated Total Annual Burden Cost: $970,620.

The estimated total annual burden cost of the collection of information is $970,620. This is the sum of the yearly costs in Tables 3 and 4 ($267,620 + $703,000 = $970,620).

Table 3—Annual Costs for Record Keepers Associated With Tires
[New and retreaded]
FMVSS or regulation | Manufacturers or retreaders | Number of molds | Cost per mold ($) | Cost per FMVSS ($)
109/139 | 20 | 10,000 | 10 | 100,000
117 | 50 | 500 | 10 | 5,000
119/139 | 780 | 3,000 | 20 | 60,000
129 | 1 | 1 | 120 | 120
569 | 20 | 250 | 10 | 2,500
574 | 780 | 10,000 | 10 | 100,000
Total yearly cost: |  |  |  | 267,620

Table 4—Annual Costs for Record Keepers Associated With Rims
[New and retreaded]
FMVSS | Number of vehicles | Number of rims | Cost per label | Cost per rim | Yearly cost
110/120 | 19,000,000 | 95,000,000 | $0.0074 | NA | $703,000

Public Comments Invited: You are asked to comment on any aspect of this information collection, including (a) whether the proposed collection of information is necessary for the Department's performance; (b) the accuracy of the estimated burden; (c) ways for the Department to enhance the quality, utility, and clarity of the information collection; and (d) ways the burden could be minimized without reducing the quality of the collected information. The agency will summarize and/or include your comments in the request for OMB's clearance of this information collection.

Authority: The Paperwork Reduction Act of 1995, 44 U.S.C. chapter 35; and delegation of authority at 49 CFR 1.95 and 501.8.

Raymond R. Posten,
Associate Administrator for Rulemaking.

[FR Doc. 2019-05449 Filed 3-21-19; 8:45 am]

BILLING CODE 4910-59-P